DEPARTMENT OF COMMERCE

National Oceanic and Atmospheric Administration

[I.D. 050102A]

Pacific Fishery Management Council; Public Meeting

AGENCY: National Marine Fisheries Service (NMFS), National Oceanic and Atmospheric Administration (NOAA), Commerce.

ACTION: Notice of public meetings.

SUMMARY: The Pacific Fishery Management Council's (Council) Ad Hoc Allocation Committee will hold a telephone conference and meeting, which are open to the public.

DATES: The telephone conference will be held Tuesday, May 21, 2002 from 8 a.m. until business is completed. A follow-up meeting of the Allocation Committee will be held on Monday, June 3, 2002, from 8 a.m. until business is completed.

ADDRESSES: Four listening stations will be available for the May 21st telephone conference. See SUPPLEMENTARY INFORMATION for the locations. The June 3 meeting will be held at the Pacific Fishery Management Council, West Conference Room, 7700 NE Ambassador Place, Suite 200, Portland, OR 97220-1384; Contact: Mr. John DeVore (503) 326-6352, ext. 210.

FOR FURTHER INFORMATION CONTACT: Mr. John DeVore, telephone: (503) 326-6352, ext. 210.

SUPPLEMENTARY INFORMATION: The listening stations will be located at the following addresses:

1. National Marine Fisheries Service, Northwest Region, Director's Conference Room, 7600 Sand Point Way NE, Building 1, Seattle, WA 98115; Contact: Mr. Bill Robinson (206) 526-6142;

2. Washington Department of Fish and Wildlife, Natural Resource Building, Room 677, 1111 Washington Street SE, Olympia, WA 98501; Contact: Mr. Phil Anderson (360) 902-2720;

3. Pacific Fishery Management Council, West Conference Room, 7700 NE Ambassador Place, Suite 200, Portland, OR 97220-1384; Contact: Mr. John DeVore (503) 326-6352, ext. 210;

4. California Department of Fish and Game, Conference Room, Room 1320, 1416 Ninth Street, Sacramento, CA 95814; Contact: Mr. LB Boydstun (916) 653-6281.

The purpose of the May 21 telephone conference and June 3 meeting is to develop preliminary options for allocations and other management measures for the 2003 Pacific Coast groundfish fishery. In addition, the committee will evaluate current catch levels of overfished groundfish species and may propose inseason adjustments. The committee will discuss the types of provisions that may be necessary to prevent further overfishing, to reduce bycatch of overfished species in the various groundfish fisheries, and to reduce bycatch in non-groundfish fisheries. The committee will prepare recommendations and contribute to draft rebuilding plans for overfished groundfish species that will be presented to the Council at future meetings. If available, the committee may also review new rebuilding analyses for canary rockfish, bocaccio, and yelloweye rockfish. No management actions will be decided by the Ad Hoc Allocation Committee. The committee’s role will be development of recommendations for consideration by the Pacific Fishery Management Council at its June meeting in Foster City, California.

Although nonemergency issues not contained in the teleconference call or meeting agendas may come before the Ad Hoc Allocation Committee for discussion, those issues may not be the subject of formal Ad Hoc Allocation Committee action during this meeting. Ad Hoc Allocation Committee action will be restricted to those issues specifically listed in this notice and any issues arising after publication of this notice that require emergency action under section 305(c) of the Magnuson-Stevens Fishery Conservation and Management Act, provided the public has been notified of the Ad Hoc Allocation Committee's intent to take final action to address the emergency.

Special Accommodations

This teleconference call and meeting are physically accessible to people with disabilities. Requests for sign language interpretation or other auxiliary aids should be directed to Ms. Carolyn Porter at (503) 326-6352 at least 5 days prior to the teleconference date.

Dated: May 1, 2002.
Richard W. Surdi,
Acting Director, Office of Sustainable Fisheries, National Marine Fisheries Service.

[FR Doc. 02-11171 Filed 5-3-02; 8:45 am]

BILLING CODE 3510-22-S